DEPARTMENT OF JUSTICE

Antitrust Division

Notice Pursuant to the National Cooperative Research and Production Act of 1993—Language Systems, Inc.

Notice is hereby given that, on March 23, 2001, pursuant to section 6(a) of the National Cooperative Research and Production Act of 1993, 15 U.S.C. 4301 et seq. (“the Act”), Language Systems, Inc. has filed written notifications simultaneously with the Attorney General and the Federal Trade Commission disclosing changes in its membership status. The notifications were filed for the purpose of extending the Act's provisions limiting the recovery of antitrust plaintiffs to actual damages under specified circumstances. Specifically, the prior joint venture member, Eloquent Technology Inc., Ithaca, NY has been acquired by Speechworks International, Inc., Boston, MA, and has been replaced by Speechworks International, Inc. as a party to this venture.

No other changes have been made in either the membership or planned activity of the group research project. Membership in this group research project remains open, and Language Systems, Inc. intends to file additional written notification disclosing all changes in membership.

On March 16, 1999, Language Systems, Inc. filed its original notification pursuant to section 6(a) of the Act. The Department of Justice published a notice in the Federal Register pursuant to section 6(b) of the Act on October 1, 1999 (64 FR 53416).

Constance K. Robinson,
Director of Operations, Antitrust Division.

[FR Doc. 01-10026 Filed 4-23-01; 8:45 am]

BILLING CODE 4410-11-M